DEPARTMENT OF THE INTERIOR

Fish and Wildlife Service

[FWS-R9-IA-2011-N045; 96300-1671-0000-P5]

Endangered Species; Marine Mammals; Issuance of Permits

AGENCY: Fish and Wildlife Service, Interior.

ACTION: Notice of issuance of permits.

SUMMARY: We, the U.S. Fish and Wildlife Service (Service), have issued the following permits to conduct certain activities with both endangered species and marine mammals. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit is\suance date
20282A | Kenneth Petersen | 75 FR 54909; September 9, 2010 | October 18, 2010.
22107A | Richard Young | 75 FR 62139; October 7, 2010 | November 17, 2010.
22592A | Jernigan Theodore | 75 FR 62139; October 7, 2010 | November 17, 2010.
23733A | Ronald Mika | 75 FR 63196; October 14, 2010 | November 17, 2010.
26730A | Frank Paino | 75 FR 69701; November 15, 2010 | December 17, 2010.
216076 | William R. Morgan III | 74 FR 32192; July 7, 2009 | December 20, 2010.
23647A | Mark Conklin | 75 FR 69701; November 15, 2010 | December 22, 2010.
073403, 073404, 114454, 206853, and 809334 | Ferdinand Fercos-Hantig and Anton Fercos-Hantig | 75 FR 51284; August 19, 2010 | December 17, 2010.
28344A | Harold Sheets | 75 FR 75491; December 3, 2010 | January 7, 2011.
28493A | Michael Moran | 75 FR 75491; December 3, 2010 | January 7, 2011.
26988A | Marc Bunting | 75 FR 76022; December 7, 2010 | January 11, 2011.
26015A | Loralee West | 75 FR 76022; December 7, 2010 | January 11, 2011.
25979A | Roy Trawick | 75 FR 76022; December 7, 2010 | January 11, 2011.
28274A | Gene Yates | 75 FR 75491; December 3, 2010 | February 24, 2011.
19933A | Gus Boniello | 75 FR 52971; August 30, 2010 | November, 10, 2010.
28293A | John Verlander | 75 FR 75491; December 3, 2010 | January 12, 2011.
28493A | Michael Moran | 75 FR 75492; December 3, 2010 | January 7, 2011.
28344A | Harold Sheets | 75 FR 75492; December 3, 2010 | January 7, 2011.
20209A | Virginia Safari Park Inc | 75 FR 76022; December 7, 2010 | January 18, 2011.
22511A | Dawn Zimmerman | 75 FR 69701; November 15, 2010 | January 18, 2010.
23847A | Gary Bailey | 75 FR 78731; December 16, 2010 | February 1, 2011.
29150A | John Estes | 75 FR 78731; December 16, 2010 | February 1, 2011.
15386A | Stephen Dunbar, Loma Linda University | 75 FR 63196; October 14, 2010 | February 2, 2011.
26648A | David Erickson | 75 FR 76022; December 7, 2010 | January 31, 2011.
30840A | Reggie Pratt | 75 FR 82409; December 30, 2010 | February 1, 2011.
26460A | Charles Sanchez | 75 FR 76022; December 7, 2010 | February 16, 2011.
25354A | William Minore | 76 FR 2408; January 13, 2011 | February 15, 2011.
31829A | Gary Bartels | 76 FR 2408; January 13, 2011 | February 15, 2011.
20085A | Matthew McNeil | 75 FR 54909; September 9, 2010 | November 10, 2010.
22509A | David Crawford | 75 FR 62139; October 7, 2010 | November 10, 2010.

Marine Mammals
Permit No. | Applicant | Receipt of application Federal Register notice | Permit issuance date
038448 | Dr. Iskande Larkin, University of Florida | 75 FR 52971; August 30, 2010 | February 24, 2011.
28829A | Floragenex, Inc. | 76 FR 2408; January 13, 2011 | February 24, 2011.

Availability of Documents

Documents and other information submitted with these applications are available for review, subject to the requirements of the Privacy Act and Freedom of Information Act, by any party who submits a written request for a copy of such documents to:

Dated: March 4, 2011.
Brenda Tapia,
Program Analyst/Data Administrator, Branch of Permits, Division of Management Authority.

[FR Doc. 2011-5402 Filed 3-8-11; 8:45 am]

BILLING CODE 4310-55-P